Proclamation 10666 of October 31, 2023

National Lung Cancer Awareness Month, 2023

By the President of the United States of America

A Proclamation

This year, nearly 250,000 Americans will be diagnosed with lung cancer, the leading cause of cancer death in the United States. During National Lung Cancer Awareness Month, we honor the resilient people who have faced this diagnosis, the loved ones who rally to their side, and the medical professionals who do all they can to help patients survive and heal. We recommit to ending cancer as we know it by investing in new, affordable ways to prevent, detect, and treat this deadly disease.

In recent years, improved treatments, as well as enhanced early detection, have brought us closer toward turning cancer diagnoses from death sentences into treatable diseases. However, challenges persist for patients and their families. It can be challenging to determine the best course of treatment. The treatment itself can be grueling. Medical bills can pile up. For some, progress is still too slow. This includes Black men, who are disproportionately likely to develop and die from lung cancer; people living in rural communities, where mortality rates remain stubbornly high; and women under 50 years old, who are diagnosed with lung cancer at higher rates than men of the same age.

As a Nation, we must come together to change that. That is why the First Lady and I reignited the Cancer Moonshot, setting ambitious goals to cut the cancer death rate by at least half in the next 25 years and improve the experience of patients and families. As a first step, my Administration secured $2.5 billion in funding for the Advanced Research Projects Agency for Health (ARPA-H). The scientists, innovators, and public health professionals funded by ARPA-H are driving breakthroughs in preventing, detecting, and treating cancer and other deadly diseases. Throughout our history, the United States has led the world in scientific innovation and discovery. We will continue to do so on our way to ending cancer as we know it.

My Administration is also investing in screening and early detection—services that are critical to diagnosing lung cancer in its beginning stages and saving lives. The Centers for Disease Control and Prevention—along with other agencies, community health centers, and partners in the private sector—is providing early detection knowledge and support services to underserved communities. We remain committed to increasing lung cancer screening rates for those most at risk and encourage everyone to talk to their doctor about symptoms.

There are additional steps each of us can take to reduce the impact of lung cancer in our own lives. For many, that starts with quitting smoking, the number one cause of lung cancer and the single-largest driver of cancer deaths in America. This year, our White House Smoking Cessation Forum brought together public health workers, health care providers, people living with cancer and their caregivers, and others to expand access to programs that help people who want to quit and ensure that these programs are accessible to everyone. Last year, the Food and Drug Administration proposed rules to prohibit menthol cigarettes and flavored cigars to help adults who are trying to quit smoking and to prevent children from becoming the next generation of smokers. Help is available to those who want to quit smoking at www.BeTobaccoFree.gov or www.smokefree.gov or by calling 877-44U-QUIT.

Additionally, my Administration has taken significant steps to make cancer treatments affordable for everyone. Through the Inflation Reduction Act, out-of-pocket drug costs for seniors on Medicare will soon be capped at $2,000 per year—including expensive cancer drugs that sometimes cost several times that. We strengthened Medicaid and the Affordable Care Act (ACA), expanding health care coverage for millions of Americans and helping nearly 15 million people save an average of $800 per year on health insurance premiums. I remain committed to maintaining the accessibility of cancer care secured in the ACA, including requiring insurers to pay for cancer screenings and primary care visits and covering cancer survivors and others who have preexisting conditions. I signed the PACT Act into law—one of the most significant laws ever to help veterans exposed to toxic materials, some of whom develop lung cancer and other diseases. This law expands access to benefits and services to veterans, ensuring they have access to health care, free screenings, and benefits through the Department of Veterans Affairs. The law also provides access to survivor benefits for families of veterans who died due to a toxic-related illness. I was also proud to sign the Federal Firefighters Fairness Act, giving more than 10,000 firefighters and their families critical workers' compensation and other benefits by making sure certain kinds of heart problems, lung disease, and cancers are presumed to be caused by the job.

Cancer has touched nearly every family in America—including mine. During National Lung Cancer Awareness Month, the First Lady and I have one message to the Nation: There is hope. We see it in the extraordinary courage and strength of all who are facing this deadly disease and in the families and loved ones who support them. We see it in the researchers who are chasing new breakthroughs and the health care workers who care for their patients with compassion and skill. This month and every month, we must seize the urgency of this moment to find better solutions, treatments, and cures and to unite as one Nation to end cancer as we know it.

NOW, THEREFORE, I, JOSEPH R. BIDEN JR., President of the United States of America, by virtue of the authority vested in me by the Constitution and the laws of the United States, do hereby proclaim November 2023 as National Lung Cancer Awareness Month. I call upon the people of the United States to speak with their doctors and health care providers to learn more about lung cancer. I encourage citizens, government agencies, private businesses, nonprofit organizations, the media, and other interested groups to increase awareness about what Americans can do to prevent, detect, and treat lung cancer.

IN WITNESS WHEREOF, I have hereunto set my hand this thirty-first day of October, in the year of our Lord two thousand twenty-three, and of the Independence of the United States of America the two hundred and forty-eighth.

[FR Doc. 2023-24501

Filed 11-2-23; 8:45 am]

Billing code 3395-F4-P